NATIONAL SCIENCE FOUNDATION

National Science Board; Sunshine Act Meetings Notice

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: Friday, September 24, 2010, at 7:45 a.m.

PLACE: Jacket Legacy Room, David B. Miller Yellow Jacket Student Union, Black Hills State University, Spearfish, South Dakota.

UPDATES AND POINT OF CONTACT: Please refer to the National Science Board Web site http://www.nsf.gov/nsb for additional information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: One closed and several open sessions.

Closed Session

September 24, 2010

7:45 a.m.-8 a.m.

Open Sessions

September 24, 2010

8 a.m.-8:30 a.m.

8:30 a.m.-9:30 a.m.

9:45 a.m.-10:05 a.m.

10:05 a.m.-11 a.m.

11 a.m.-11:20 a.m.

11:20 a.m.-11:45 a.m.

Matters To Be Discussed

Thursday, September 24, 2010

Plenary Executive Closed

Closed Session: 7:45 a.m.-8 a.m. Jacket Legacy Room.

Approval of Executive Closed Session Minutes, May 2010, Election of Executive Committee Member.

Plenary Open

Open Session: 8 a.m.-11:45 a.m. Jacket Legacy Room.

8 a.m. Chairman's Introduction and Black Hills State University,

President's Welcome,

Chairman's Report,

Director's Report.

8:30 a.m. Presentations from Tribal College Presidents:

Moderator: Dr. Jody Chase, National Science Foundation, Program Officer, Tribal Colleges and Universities Program (TCUP).

—Dr. Lionel R. Bordeaux, Sinte Gleska University (Invited),

—Dr. Diana Canku, Sisseton Wahpeton College,

—Mr. Thomas Shortbull, Oglala Lakota College,

—Dr. Laurel Vermillion, Sitting Bull College.

9:30 a.m. Break.

9:45 a.m. Overview of South Dakota Science and Engineering Research.

Introduction: Dr. Jack Warner, Executive Director, SD Board of Regents.

Presenter: Dr. Gary Johnson, System VP of Research, SD Board of Regents.

10:05 a.m. Discussion on Research at South Dakota's Institutions of Higher Learning.

Moderator: Dr. Gary Johnson, System Vice President of Research, SD Board of Regents.

Discussants:

—Dr. Duane Hrncir, Provost/Vice Pres. for Academic Affairs, SDSMT,

—Dr. Laura Jenski, Vice President for Research, USD,

—Dr. Kevin Kephart, Vice President for Research, SDSU,

—Dr. Jack Warner, Executive Director, SD Board of Regents.

11 a.m. Broad Impact of Deep Underground Science and Engineering Laboratory (DUSEL) on South Dakota Graduate Education in Physics.

Presenter: Dr. Robert Wharton, SDSMT President.

11:20 a.m. Integrative Graduate Education and Research Traineeship (IGERT) Program in South Dakota.

Presenter: Dr. Mary Berry, USD.

11:40 a.m. Chairman's Closing Remarks.

11:45 a.m. Adjourn.

Daniel A. Lauretano,
Counsel to the National Science Board.

[FR Doc. 2010-22825 Filed 9-9-10; 4:15 pm]

BILLING CODE 7555-01-P